DEPARTMENT OF AGRICULTURE

Forest Service

Southwest Idaho Resource Advisory Committee

AGENCY: Forest Service, USDA.

ACTION: Notice of meeting.

SUMMARY: The Southwest Idaho Resource Advisory Committee (RAC) will hold two virtual meetings. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/boise/workingtogether/advisorycommittees.

DATES: The meetings will be held on:

• Thursday, July 15, 2021 beginning at 9:00 a.m., Mountain Daylight Time, and

• Thursday, July 29, 2021 beginning at 9:00 a.m., Mountain Daylight Time.

All RAC meetings are subject to cancellation. For status of the meeting prior to attendance, please contact the person listed under For Further Information Contact.

ADDRESSES: The meeting will be held with virtual attendance only. For virtual meeting information, please contact the person listed under For Further Information Contact.

Written comments may be submitted as described under Supplementary Information. All comments, including names and addresses when provided, are placed in the record and are available for public inspection and copying. The public may inspect comments received at the McCall, Idaho Office for the Payette National Forest. Please call ahead at to facilitate entry into the building.

FOR FURTHER INFORMATION CONTACT: Brian Harris, RAC Designated Federal Offical, by phone at 208-634-6945 or via email at brian.d.harris@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meeting is to:

1. Present project proposals, and

2. Discuss, recommend, and approve new Title II projects.

The meetings are open to the public. The agendas will include time for people to make oral statements of three minutes or less. Individuals wishing to make an oral statement at any of the meetings should request in writing by Wednesday, June 30, 2021, to be scheduled on the agenda for that particular meeting. Anyone who would like to bring related matters to the attention of the committee may file written statements with the committee staff before or after the meeting. Written comments and requests for time for oral comments must be sent to Brian Harris, RAC Designated Federal Official, 500 N Mission Street, McCall, Idaho 83638; by email to brian.d.harris@usda.gov.

Meeting Accommodations: If you are a person requiring reasonable accommodation, please make requests in advance for sign language interpreting, assistive listening devices, or other reasonable accommodation. For access to the proceedings, please contact the person listed in the section titled For Further Information Contact. All reasonable accommodation requests are managed on a case-by-case basis.

Dated: June 21, 2021.
Cikena Reid,
USDA Committee Management Officer.

[FR Doc. 2021-13627 Filed 6-24-21; 8:45 am]

BILLING CODE 3411-15-P